DEPARTMENT OF AGRICULTURE

Natural Resources Conservation Service

Cane Creek Watershed, Lauderdale County, TN

AGENCY: Natural Resources Conservation Service.

ACTION: Notice of availability of record of decision.

SUMMARY: James W. Ford, responsible Federal official for projects administered under the provisions of Public Law 83-566, 16 U.S.C. 1001-1008, in the State of Tennessee, is hereby providing notification that a record of decision to proceed with the installation of the Cane Creek Watershed Remedial project is available. Single copies of this record of decision may be obtained from James W. Ford at the address shown below.

FOR FURTHER INFORMATION CONTACT: James W. Ford, State Conservationist, Natural Resources Conservation Service, 675 U. S. Courthouse, 801 Broadway, Nashville, Tennessee 37203, telephone (615) 277-2531.

(This activity is listed in the Catalog of Federal Domestic Assistance under No. 10.904, Watershed Protection and Flood Prevention, and is subject to the provisions of Executive Order 12372, which requires intergovernmental consultation with State and local officials)
Dated: September 23, 2004.
James W. Ford,
State Conservationist.

[FR Doc. 04-22030 Filed 9-30-04; 8:45 am]

BILLING CODE 3410-16-P